DEPARTMENT OF HEALTH AND HUMAN SERVICES

National Institutes of Health

Request for Information for Developing the National Cancer Moonshot Initiative

SUMMARY: This Request for Information (RFI) describes ways in which the cancer research community and public can provide new ideas and comment on proceedings of the National Cancer Advisory Board (NCAB) Blue Ribbon Panel under the umbrella of the National Cancer Moonshot Initiative.

DATES: Responses should be submitted to the National Cancer Institute (NCI), National Institutes of Health (NIH) on or before 5:00 p.m. EST on July 1, 2016.

ADDRESSES: Electronic responses are preferred and should be addressed or submitted to either: (1) The online platform, Cancer Research Ideas, at https://cancerresearchideas.cancer.gov; or (2) email to cancerresearch@nih.gov. Non-electronic responses will also be accepted by calling the NCI Cancer Information Service at 1-800-422-6237 or by mail to Blue Ribbon Panel, National Cancer Moonshot Initiative, National Cancer Institute, 9609 Medical Center Drive, Bethesda, MD 20892-9760.

FOR FURTHER INFORMATION: Questions about this request for information should be directed to Kelli Marciel, National Cancer Institute, 9609 Medical Center Drive, Bethesda, MD 20892-9760, Kelli.Marciel@nih.gov, 301-594-3330.

SUPPLEMENTARY INFORMATION: During his State of the Union address on January 12, 2016, President Barack Obama announced the establishment of a new National Cancer Moonshot Initiative to accelerate cancer research. The initiative, led by Vice President Joe Biden, aims to make more therapies available to more patients, while also improving our ability to prevent cancer and detect it at an early stage. Additional details of the National Cancer Moonshot Initiative are available at http://www.cancer.gov/research/key-initiatives/moonshot-cancer-initiative.

The White House and Vice President Biden have named a Task Force of 13 heads of federal agencies and offices who will advise the administration on research priorities. To ensure that the National Cancer Moonshot Initiative's goals and approaches are grounded in the best science, President Obama directed the Moonshot Task Force to consult with external experts, including the presidentially appointed National Cancer Advisory Board (NCAB). A Blue Ribbon Panel of experts has been established as a working group of the NCAB that will assist the board in providing this advice.

The Blue Ribbon Panel is composed of leading experts from a broad range of scientific areas, including biology, immunology, genomics, diagnostics, bioinformatics, and cancer prevention and treatment. Members also include investigators with expertise in clinical trials and cancer health disparities. In addition to researchers, the panel membership also includes clinicians and nurses, and representatives of cancer advocacy organizations and the pharmaceutical and biotechnology industries.

The Blue Ribbon Panel will focus on identifying scientific opportunities in cancer research that could produce major advances with additional emphasis and funding, and propose ways to overcome barriers to pursuing these opportunities.

Community input is critical to the success of the National Cancer Moonshot Initiative. Indeed, the success of the initiative will depend on breaking down silos and encouraging everyone with an interest in fighting cancer to work together, share information, and collaborate on solutions. To enable the Blue Ribbon Panel to consider a wide range of input from researchers, scientists, physicians, advocates, students, data scientists, and members of the public, anyone with a scientific idea or suggestion for addressing cancer research challenges can contribute by visiting https://cancerresearchideas.cancer.gov.

Input is sought in the following areas:

• Expanding clinical trials

• Enhanced data sharing

• Cancer immunology and prevention

• Implementation sciences

• Pediatric cancer

• Precision, prevention and early detection

• Tumor evolution and progression

This RFI is for planning purposes only and should not be construed as a solicitation for applications or proposals, or as an obligation in any way on the part of the United States Federal government. The Federal government will not pay for the preparation of any information submitted or for the government's use. Additionally, the government cannot guarantee the confidentiality of the information provided.

Dated: May 5, 2016.
Dinah Singer,
Acting Deputy Director, National Cancer Institute.

[FR Doc. 2016-11283 Filed 5-12-16; 8:45 am]

BILLING CODE 4140-01-P